DEPARTMENT OF HOMELAND SECURITY

Coast Guard

33 CFR Parts 100 and 165

[Docket No. USCG-2016-0556]

Madison Regatta, Inc./Madison Regatta, Madison, IN

AGENCY: Coast Guard, DHS.

ACTION: Notice of enforcement of regulations.

SUMMARY: The Coast Guard will enforce special local regulations and a safety zone for the Madison Regatta for all waters of the Ohio River, beginning at mile marker 555.0 and ending at mile marker 560.0, Madison, IN. These actions are necessary to protect persons, property, and infrastructure from potential damage and safety hazards associated with a regatta taking place on the Ohio River. During the enforcement period, deviation from the regulations or safety zone is prohibited unless specifically authorized by the Captain of the Port (COTP) Ohio Valley or a designated representative.

DATES: The regulations in 33 CFR 100.801, Table 1, Sector Ohio Valley, No. 16 and 33 CFR 165.801, Table 1, Sector Ohio Valley, No. 52 will be enforced from July 1 through July 3, 2016.

FOR FURTHER INFORMATION CONTACT: If you have questions on this notice of enforcement, call or email Petty Officer Caloeb Gandy, U.S. Coast Guard; telephone 502-779-5334, Email Caloeb.l.gandy@uscg.mil.

SUPPLEMENTARY INFORMATION: The Coast Guard will enforce the special local regulations listed in 33 CFR 100.801, Table 1, Sector Ohio Valley, No. 16, and the safety zone listed in 33 CFR 165.801, Table 1, Sector Ohio Valley, No. 52 during the Madison Regatta as follows:

July 1, 2016 from 8:00 a.m. to 6:00 p.m.

July 2, 2016 from 7:00 a.m. to 10:30 p.m.

July 3, 2016 from 7:00 a.m. to 6:30 p.m.

Under the provisions of 33 CFR part 100 and 33 CFR part 165, a vessel may not enter the regulated area, unless it receives permission from the COTP Ohio Valley or a designated representative. Spectator vessels may safely transit outside the regulated area but may not anchor, block, loiter in, or impede the transit of race participants or official patrol vessels. The Coast Guard may be assisted by other Federal, State, or local law enforcement agencies in enforcing this regulation.

This notice of enforcement is issued under authority of 5 U.S.C. 552 (a). In addition to this notice of enforcement in the Federal Register, the Coast Guard will provide the maritime community with extensive advance notification of the enforcement periods for these regulations via the Local Notice to Mariners (LNM) and Broadcast Notice to Mariners (BNM).

R.V. Timme,
Captain, U.S. Coast Guard, Captain of the Port Ohio Valley.

[FR Doc. 2016-15506 Filed 6-29-16; 8:45 am]

BILLING CODE 9110-04-P